DEPARTMENT OF COMMERCE

Bureau of the Census

Census Scientific Advisory Committee

AGENCY: Bureau of the Census, Department of Commerce.

ACTION: Notice of Public Virtual Meeting.

SUMMARY: The Bureau of the Census (Census Bureau) is giving notice of a virtual meeting of the Census Scientific Advisory Committee (C-SAC). The Committee will address policy, research, and technical issues relating to the 2020 Census Operational Plan. The C-SAC will meet via teleconference on November 2, 2015. Last-minute changes to the schedule are possible, which could prevent us from giving advance public notice of schedule adjustments. Please visit the Census Advisory Committees Web site for the most current meeting agenda at: http://www.census.gov/cac/.

DATES: November 2, 2015. The virtual meeting will begin at approximately 1:00 p.m. and end at approximately 3:00 p.m.

ADDRESSES: The meeting will be held via teleconference. To attend, participants should call the following phone number: 1-877-973-5204. When prompted, please use the following password: 1733620.

FOR FURTHER INFORMATION CONTACT: Kim Collier, Assistant Division Chief for Stakeholders, Customer Liaison and Marketing Services Office, kimberly.l.collier@census.gov, Department of Commerce, U.S. Census Bureau, Room 8H185, 4600 Silver Hill Road, Washington, DC 20233, telephone 301-763-6590. For TTY callers, please use the Federal Relay Service 1-800-877-8339.

SUPPLEMENTARY INFORMATION: The members of the C-SAC are appointed by the Census Bureau's Director. The Committee provides scientific and technical expertise, as appropriate, to address Census Bureau program needs and objectives. The Committee has been established in accordance with the Federal Advisory Committee Act (Title 5, United States Code, Appendix 2, Section 10).

All meetings are open to the public. A brief period will be set aside at the meeting for public comment on November 2. However, individuals with extensive questions or statements must submit them in writing to: census.scientific.advisory.committee@census.gov (subject line “November 2015 C-SAC Virtual Meeting Public Comment”), or by letter submission to the Committee Liaison Officer, Department of Commerce, U.S. Census Bureau, Room 8H185, 4600 Silver Hill Road, Washington, DC 20233.

Dated: October 15, 2015.
John H. Thompson,
Director, Bureau of the Census .

[FR Doc. 2015-26605 Filed 10-19-15; 8:45 am]

BILLING CODE 3510-07-P